DEPARTMENT OF ENERGY

Federal Energy Regulatory Commission

[Docket No. RP03-513-000]

Transcontinental Gas Pipe Line Corporation; Notice of Limited Waiver

June 12, 2003.

Take notice that on June 2, 2003, Transcontinental Gas Pipe Line Corporation (Transco) tendered for filing a request for expedited approval of a limited waiver of certain imbalance cash out provisions of Transco's FERC Gas Tariff.

Transco states that this requested waiver would apply to the imbalances incurred by shippers during April and May 2003 following the implementation of Transco's new business system and associated new business practices.

Transco states that copies of the filing have been served upon each person designated on the official service listed.

Any person desiring to be heard or to protest said filing should file a motion to intervene or a protest with the Federal Energy Regulatory Commission, 888 First Street, NE., Washington, DC 20426, in accordance with Sections 385.214 or 385.211 of the Commission's Rules and Regulations. All such motions or protests must be filed on or before the intervention and protests date has indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 16, 2003.

Magalie R. Salas,
Secretary.

[FR Doc. 03-15432 Filed 6-18-03; 8:45 am]

BILLING CODE 6717-01-P